DEPARTMENT OF THE INTERIOR

Bureau of Indian Affairs

Indian Gaming

AGENCY: Bureau of Indian Affairs, Interior.

ACTION: Notice of Deemed Approved Amended Tribal-State Class III Gaming Compact

SUMMARY: This notice publishes the Deemed Approved Amended Tribal-State Compact between the State of California and the Morongo Band of Mission Indians.

DATES: Effective Date: December 19, 2007.

FOR FURTHER INFORMATION CONTACT: George T. Skibine, Director, Office of Indian Gaming, Office of the Deputy Assistant Secretary—Policy and Economic Development, Washington, DC 20240, (202) 219-4066.

SUPPLEMENTARY INFORMATION: Under Section 11 of the Indian Gaming Regulatory Act of 1988 (IGRA) Public Law 100-497, 25 U.S.C. 2710, the Secretary of the Interior shall publish in the Federal Register notice of approved Tribal-State compacts for the purpose of engaging in Class III gaming activities on Indian lands. The compact allows for an increase in gaming devices and any devices or games authorized under State law to the State lottery. Finally, the term of the compact is until December 31, 2030. The Assistant Secretary—Indian Affairs, Department of the Interior, through his delegated authority, is publishing notice that the Amendment between the State of California and the Morongo Band of Mission Indians is now in effect.

Dated: December 13, 2007.
Carl J. Artman,
Assistant Secretary—Indian Affairs.

[FR Doc. E7-24566 Filed 12-18-07; 8:45 am]

BILLING CODE 4310-4N-P